DEPARTMENT OF TRANSPORTATION

Coast Guard

33 CFR Part 117

[CGD05-01-001]

RIN 2115-AE47

Drawbridge Operation Regulation; Beaufort Channel, Beaufort, NC

AGENCY: Coast Guard, DOT.

ACTION: Notice of proposed rulemaking.

SUMMARY: The Coast Guard is proposing to change the regulations that govern the operation of the Greydon Paul Drawbridge on US 70 across Beaufort Channel, also known as Gallant's Channel, mile 0.1, located in Beaufort, North Carolina. The proposed rule would reduce the number of bridge openings during times of peak highway traffic. This change would reduce traffic delays while still providing for the reasonable needs of navigation.

DATES: Comments and related material must reach the Coast Guard on or before June 12, 2001.

ADDRESSES: You may mail comments and related material to Commander (Aowb), Fifth Coast Guard District, Federal Building, 4th Floor, 431 Crawford Street, Portsmouth, Virginia 23704-5004, or they may be hand delivered to the same address between 8 a.m. and 4:30 p.m., Monday through Friday, except Federal holidays. Commander (Aowb), Fifth Coast Guard District maintains the public docket for this rulemaking. Comments and material received from the public, as well as documents indicated in this preamble as being available in the docket, will be available for inspection and copying at the above address between the hours of 8 a.m. and 4:30 p.m., Monday through Friday, except Federal holidays.

FOR FURTHER INFORMATION CONTACT: Ann Deaton, Bridge Administrator, Fifth Coast Guard District, at (757) 398-6222.

SUPPLEMENTARY INFORMATION:

Request for Comments

We encourage you to participate in this rulemaking by submitting comments and related material. If you do so, please include your name and address, identify the docket number for this rulemaking (CGD05-01-001), indicate the specific section of this document to which each comment applies, and give the reason for each comment. Please submit all comments and related materials in an unbound format, no larger than 8½ by 11 inches, suitable for copying. If you would like to know this reached us, please enclose a stamped self-addressed postcard or envelope. We will consider all comments and material received during the comment period. We may change this proposed rule in view of them.

Public Meeting

We do not plan to hold a public meeting. But you may submit a request for a meeting by writing to the Commander (Aowb) at the address under ADDRESSES explaining why one would be beneficial. If we determine that one would aid this rulemaking, we would hold one at a time and place announced by a later notice in the Federal Register.

Background and Purpose

The Greydon Paul Drawbridge is owned and operated by the North Carolina Department of Transportation (NCDOT). The regulation at 33 CFR 117.822 requires the bridge to open on signal except that from 6 a.m. to 10 p.m., the draw shall open on signal for all vessels waiting to pass every hour on the hour, twenty minutes past the hour and forty minutes past the hour; except that on weekdays the bridge need not open at 7:40 a.m., 8:40 a.m., 4:40 p.m. and 5:40 p.m. From 10 p.m. to 6 a.m., the bridge shall open on signal.

The Graydon Paul Bridge is the connecting bridge between Beaufort and Morehead City, North Carolina on US 70. This is the only corridor into Beaufort without making a 3 hour commute around Carteret County. Eleven to twelve thousand vehicles pass over the bridge everyday. One mile south of the Greydon Paul Bridge on US 70 is the Morehead City US 70 Bridge, which is a fixed 65 ft vertical clearance bridge over the Atlantic Intracoastal Waterway (AICWW). It is a short waterway commute for boaters to go around through the AICWW by Morehead City back to Beaufort. Motorists do not have an alternate route traveling to and from Beaufort to Morehead City. When bridge lifts occur, traffic backs up periodically for six to seven miles. The current schedule of openings every twenty minutes does not allow the traffic congestion to clear the bridge before the next opening. During rush hour periods the situation is even further impacted due to peak traffic numbers of vehicles trying to cross the bridge. NCDOT proposes that by restricting openings to twice an hour and lengthening rush hour restrictions for peak traffic times on the bridge, vehicular traffic congestion on US Highway 70 will be reduced and highway safety will be increased. NCDOT provided statistical data which supports the extreme traffic counts for a two lane bridge along with the number of openings and vessels requiring openings. This data revealed that traffic counts are staying at a constant 11-12 thousand cars a day with peak traffic time being from 6:30 a.m. to 8 a.m. and 4:30 p.m. to 6 p.m. Monday through Friday. The waterway users (which are comprised of commercial and recreational users with a mast height of less than 65 feet; there are no vessels requiring more than 65 feet in vertical clearance) for this area were contacted by the Coast Guard and the majority agreed to bridge openings twice an hour and extended rush hour restrictions. There is an alternate waterway route around the Beaufort Bridge through the Route 70 Morehead City Bridge (which provides a fixed 65 ft vertical clearance to mariners). It adds 35-40 minutes in transit time to vessels to go around. Overall, the Coast Guard believes that this proposed rule will reduce motor vehicle traffic delays on the hour and half hour and congestion related to rush hour traffic entering and exiting the town of Beaufort, North Carolina, while still providing for the reasonable needs of navigation.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full regulatory Evaluation under paragraph 10e of the regulatory policies and procedures of DOT is unnecessary.

We reached this conclusion based on the fact that the proposed changes will not impede maritime traffic transiting the bridge, but merely require mariners to plan their transits in accordance with the scheduled bridge openings, while still providing for the needs of the bridge owner.

Small Entities

Under the Regulatory Flexibility Act (5 U.S.C. 601-612), we consider whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. There are 15 waterborne companies (Charter and Fishing vessels) that transit through the Beaufort Channel Bridge. These companies were contacted and everyone within those agencies agreed to the proposed restrictions. Commercial waterway users have an alternate route around the Beaufort Channel Bridge will not have an adverse effect on these small entities due to their ability to time their transits through the bridge during the specified opening periods.

If you think your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the Commander (Aowb), Fifth Coast Guard District, Federal Building, 4th Floor, 431 Crawford Street, Portsmouth, Virginia 23704-5004.

Collection of Information

This proposed rule would call for no new collection of information under the Paperwork Reduction Act of 1995 (44 U.S.C. 3501-3520).

Federalism

We have analyzed this proposed rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not affect a taking of private property or otherwise have taking implications under Executive Order 12630, Governmental Actions and Interference with Constitutionally Protected Property Rights.

Civil Justice Reform

This proposed rule meets applicable standards in Section 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (32) (e), of Commandant Instruction M16475.1C, this proposed rule is categorically excluded from further environmental documentation. This proposed rule only deals with the operating schedule of an existing drawbridge and will have no impact on the environment. A “Categorical Exclusion Determination” is available in the docket where indicated under ADDRESSES.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); Section 117.255 also issued under the authority of Pub. L. 102-4587, 106 Stat. 5039.

2. Section 117.822 is revised to read as follows:

117.822 Beaufort Channel, NC.

The draw of the US 70 bridge, mile 0.1., at Beaufort, shall open as follows:

(a) From 6 a.m. to 10 p.m., the draw need only open every hour on the hour, and on the half hour; except that Monday through Friday the bridge need not open from 6:30 a.m. to 8 a.m. and from 4:30 p.m. to 6 p.m.

(b) From 10 p.m. to 6 a.m., the bridge shall open on signal.

Dated: March 9, 2001.
John E. Shkor,
Vice Admiral, U.S. Coast Guard, Commander, Fifth Coast Guard District.

[FR Doc. 01-9176 Filed 4-12-01; 8:45 am]

BILLING CODE 4910-15-P